DEPARTMENT OF AGRICULTURE

Foreign Agricultural Service

Notice of Funding Availability: Inviting Applications for McGovern-Dole International Food for Education and Child Nutrition Program's Micronutrient-Fortified Food Aid Products Pilot; Correction

AGENCY: Foreign Agricultural Service.

ACTION: Notice; correction.

SUMMARY: The Foreign Agricultural Service (FAS) published a notice in the Federal Register on March 14, 2011, inviting proposals for the McGovern-Dole International Food for Education and Child Nutrition (McGovern-Dole) Program Micronutrient-Fortified Food Aid Products Pilot (MFFAPP). The notice stated that eligible applicants could submit proposals through June 10, 2011. This date was incorrect and, by this notice, FAS is correcting the due date to June 15, 2011.

DATES: Effective on April 12, 2011

FOR FURTHER INFORMATION CONTACT: Paul Alberghine, or by phone:

(202) 720-2235; or by e-mail: Paul.Alberghine@fas.usda.gov.

SUPPLEMENTARY INFORMATION: FAS published a notice in the Federal Register on March 14, 2011 (76 FR 13598) that indicated that the application due date for proposals for funding under the MFFAPP was June 10, 2011. This date, which was incorrect, appeared in the SUMMARY section, the DATES section, and subsection IV.C. of the SUPPLEMENTARY INFORMATION section.

The correct application due date is June 15, 2011. By this notice, FAS informs applicants for funding under the MFFAPP that all applications must be received by 5 p.m. Eastern Daylight Time, June 15, 2011. Applications received after this date will not be considered.

Dated: April 4, 2011.
John D. Brewer,
Administrator, Foreign Agricultural Service.

[FR Doc. 2011-8584 Filed 4-11-11; 8:45 am]

BILLING CODE 3410-10-P